ENVIRONMENTAL PROTECTION AGENCY

[FRL-7617-4]

Notice of Approval of Federal Operating Permits to Clearwater Forest Industries (CFI); Three Rivers Timber, Inc. (Three Rivers); Empire Lumber Company, dba Kamiah Mills (Empire Lumber); Northwest Pipeline Corporation, Pocatello Compressor Station (Northwest Pipeline); Colville Tribal Enterprise Corporation, dba Colville Indian Power & Veneer (CIPV)

AGENCY: Environmental Protection Agency (EPA).

ACTION: Notice.

SUMMARY: This is notice that five federal Part 71 Tribal Operating permits have been issued from EPA Region 10.

FOR FURTHER INFORMATION CONTACT: If you have any questions or would like a copy of any of the permits listed above, please contact Lucita Valiere, at U.S. Environmental Protection Agency, Office of Air Quality (OAQ-107), 1200 Sixth Avenue, Seattle, Washington 98101, (206) 553-8087.

SUPPLEMENTARY INFORMATION: Notice is hereby given that EPA Region 10 has issued Federal operating permits to the applicants listed below:

Name | Permit No. | Location | Reservation | Issuance date | Effective date
CFI | R10T5-ID-00-01. | Kooskia, ID | Nez Perce | 2/15/01 | 4/30/01
Empire Lumber | R10T5-ID-00-02. | Kamiah, ID | Nez Perce | 8/8/01 | 8/8/01
Three Rivers | R10T5-ID-00-03. | Kamiah, ID | Nez Perce | 8/23/02 | 10/7/02
Northwest Pipeline | R10T5-ID-02-01. | Pocatello, ID | Fort Hall | 10/17/02 | 12/2/02
CIPV | R10T5-WA-03-01. | Omak, WA | Colville | 6/10/03 | 6/10/03

These permits grant approval to the facilities identified in the permits to operate the air emission sources identified in the permits in accordance with the terms and conditions of the respective permits. This notice is published in accordance with 40 CFR 71.11(l)(7), which requires notice of any final agency action regarding a Federal operating permit to be published in the Federal Register.

The Federal operating permits issued by EPA to the facilities identified above incorporate all applicable air quality requirements and require monitoring to ensure compliance with these requirements. Submittal of periodic reports of all required monitoring, as well as submittal of an annual compliance certification, are also required. The Federal operating permits have a term not to exceed five years, and a timely application for permit renewal must be submitted to EPA prior to permit expiration in order to continue operation of the permitted source.

The provisions of 40 CFR part 71 govern issuance of these permits. EPA received public comments on the CFI, Three Rivers, and Northwest Pipeline permits. In accordance with the requirements of 40 CFR 71.11(j), EPA responded to all comments received on these permits. EPA received no comments on the permits for Empire Lumber and CIPV. Pursuant to 40 CFR 71.11(i), EPA provided copies of the final permits to the applicant and each person who submitted written comments on a permit or requested notice of the final permit decision. No one requested review of any of the final permits by the Environmental Appeals Board within 30 days of receipt of the final permits in accordance with 40 CFR 71.11(l). Thus, pursuant to 40 CFR 71.11(i) and (l), the permits became final on the dates indicated in the chart above. A petition to the Environmental Appeals Board under 40 CFR 71.11(l) is, under 42 U.S.C. 307(b), a prerequisite to seeking judicial review of the final agency action. See 40 CFR 71.11(l)(4). 40 CFR 71.11(l)(7) requires notice of any final agency action regarding a Federal operating permit to be published in the Federal Register. This notice satisfies that requirement.

Dated: January 21, 2004.
L. John Iani,
Regional Administrator, Region 10.

[FR Doc. 04-2816 Filed 2-9-04; 8:45 am]

BILLING CODE 6560-50-P